DEPARTMENT OF AGRICULTURE

Forest Service

Information Collection; Request for Comments; Long-Term Fire Retardants

AGENCY: Forest Service, USDA.

ACTION: Notice.

SUMMARY: In accordance with the Paperwork Reduction Act of 1995, the Forest Service is seeking comments from all interested individuals and organizations on extending the information collection, Long-Term Fire Retardants.

DATES: Comments must be received in writing on or before July 5, 2005 to be assured of consideration. Comments received after that date will be considered to the extent practicable.

ADDRESSES: Comments concerning this notice should be addressed to Victoria Henderson, Branch Director, National Interagency Fire Center, Equipment and Chemicals, State and Private Forestry, Forest Service, USDA, 3833 S. Development Avenue, Boise, Idaho 83705.

Comments also may be submitted via facsimile to (208) 387-5971 or by e-mail to: thenderson@fs.fed.us. They may be viewed at: http://www.fs.fed.us.fire/chemicals/comments.html.

The public may inspect comments received at the Office of the Branch Director, National Interagency Fire Center, Equipment and Chemicals, State and Private Forestry, Forest Service, USDA, Jack Wilson Building, 3833 S. Development Avenue, Boise, Idaho, Monday through Friday between 10 a.m. and 3 p.m. Visitors are encouraged to call ahead to (208) 387-5348 to facilitate entry to the building.

FOR FURTHER INFORMATION CONTACT: Les Holsapple, Missoula Technology and Development Center (MTDC), at (406) 829-6761, Cecilia Johnson, MTDC, at (406) 329-4819, or Tory Henderson, National Interagency Fire Center, at (208) 387-5348.

SUPPLEMENTARY INFORMATION

Background

The Forest Service determined a need, “To have available and utilize adequate types and quantities of qualified fire chemical products to accomplish fire management activities safely, efficiently, and effectively.” (Forest Service Manual 5192.02). To accomplish this objective the Forest Service needs to evaluate and approve manufacturer's long-term fire retardant products that may be used in direct wildland fire suppression operations prior to being used on lands managed by the Forest Service and its Federal cooperators.

Evaluation and qualification is based upon meeting the standards identified in the specifications maintained by staff at the Missoula Technology and Development Center. Specifications taken from the “List of Known and Suspected Carcinogens” and the U.S. Environmental Protection Agency's “List of Highly Hazardous Materials” are utilized in the evaluation, qualification, and approval process.

Safe products will not include ingredients that create an enhanced risk in typical use to either the firefighters involved or the public in general. A risk analysis may be required to determine if any products or ingredients in Long-term Fire Retardants pose an increased health risk to humans. The effects are based upon acute toxicity determinations of the products and a review of lists of known and suspected carcinogens. The safety of the firefighters equipment, either ground-based or aircraft, such as uniform corrosion tests or intergrandular, is considered. Safety to the environment also is considered in terms of aquatic environments (fish and clean water) and terrestrial environments (wildlife and plants).

Risk determinations are undertaken to identify products, which do not enhance risk to those environments in typical use. Toxicity determinations are done for acute toxicity concerns. Efficiency evaluations are based upon such items as (1) the range of mix ratios of concentrate products with water appropriate for storage and handling in typical wildland fire operations to provide products that are storable and/or can be kept available on fire equipment and (2) can be mixed and used with readily available equipment and facilities. Effectiveness tests for these products are based upon those products ability to reduce fire spread and intensity even after the water carrier has evaporated away.

The information is collected by manufacturers and submitted on two completed forms, the Confidential Disclosure Sheets and Technical Data Sheets. The manufacturers submit the completed forms to staff at the Missoula Technology and Development Center, located in Missoula, Montana. These forms are available electronically via e-mail or paper via surface mail. The manufacturers may submit forms electronically or via surface mail to the Missoula Technology and Development Center.

The following describes the information collection to be extended:

Title: Long-Term Fire Retardants.

OMB Number: 0596-0184.

Expiration Date of Approval: 09/30/2005.

Type of Request: Extension.

Abstract: The collected information includes listings of specific individual ingredients and the quantity of these ingredients in the formulation of the products, identification of the specific sources of supply for each ingredient, and the specific mixing and hydration requirements of gum-thickened retardants.

If a risk analysis is needed, the Forest Service will request the manufacturer send a copy of the product labeling. In these cases a third party (either contractor or other Federal agency) is utilized to assess the specific levels of products or ingredients expected to occur in typical applications relative to human and environmental health. Once the manufacturers (and/or their suppliers) have submitted their information and payment (approximately $15,000 to the USDA Forest Service and an additional approximate $15,000 to third party laboratories in accordance with Federal Acquisition Regulation 9.202(a)(2)(ii)) for the analysis and evaluation, the Missoula Technology and Development Center staff will begin to test the safety, efficiency, and effectiveness of the long-term fire retardant products.

The one-time collection of this information for each product submitted for evaluation is necessary (1) because it takes over a year to test the long-term fire retardant products for safety, efficiency, and effectiveness and (2) the need to ensure the safety, effectiveness, and efficiency of long-term fire retardant products prior to their use. If this information is not collected and long-term fire retardant products are not analyzed and evaluated on an on-going basis, the ability of the Forest Service to solicit and award long-term fire retardant fire contracts in a timely manner would not be possible.

Estimate of Annual Burden: 3.6 hours.

Type of Respondents: Manufacturers (and their suppliers) of long-term fire retardant products which suppress and retard combustion of wildland fires and which may meet the requirements of the appropriate USDA FS Specification that may be viewed at: http://www.fs.fed.us/rm/fire/wildland_chemical.htm.

Estimated Annual Number of Respondents: 3.

Estimated Annual Number of Responses per Respondent: 6.

Estimated Total Annual Burden on Respondents: 65.5 hours.

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the request for Office of Management and Budget approval.

Dated: April 29, 2005.
Robin L. Thompson,
Associate Deputy Chief, State and Private Forestry.

[FR Doc. 05-9050 Filed 5-5-05; 8:45 am]

BILLING CODE 3410-11-P